DEPARTMENT OF EDUCATION

[CFDA No.: 84.133G]

Office of Special Education and Rehabilitative Services; National Institute on Disability and Rehabilitation Research; Notice Inviting Applications for New Awards Under Field Initiated Research Projects for Fiscal Year 2001

Purpose of the Program

Field-Initiated (FI) projects must further one or both of the following purposes: (1) Develop methods, procedures, and rehabilitation technology, that maximize the full inclusion and integration into society, employment, independent living, family support, and economic and social self-sufficiency of individuals with disabilities, especially individuals with the most severe disabilities; and (2) improve the effectiveness of services authorized under the Rehabilitation Act of 1973, as amended. FI projects carry out either research activities or development activities. In carrying out a research activity, a grantee must identify one or more hypotheses, and based on the hypotheses identified, perform an intensive systematic study directed toward new or full scientific knowledge, or understanding of the subject or problem studied.

In carrying out a development activity, a grantee must use knowledge and understanding gained from research to create materials, devices, systems, or methods beneficial to the target population, including design and development of prototypes and processes. Target population means the group of individuals, organizations, or other entities expected to be affected by the project. More than one group may be involved since a project may affect those who receive services, provide services, or administer services.

Goals 2000: Educate America Act

The Goals 2000: Education America Act (Goals 2000) focuses the Nation's education reform efforts on the eight National Education Goals and provides a framework for meeting them. Goals 2000 promotes new partnerships to strengthen schools and expands the Department's capacities for helping communities to exchange ideas and obtain information needed to achieve the goals.

This notice would address the National Education Goal that every adult Americans will be literate and will possess the knowledge and skills necessary to compete in a global economy and exercise the rights and responsibilities of citizenship.

The notice of final competitive preference points for the Field Initiated competition is published elsewhere in this issue of the Federal Register.

Eligible Applicants: Public and private organizations, including institutions of higher education and Indian tribes and tribal organizations, are eligible to apply for awards under this program.

Deadline for Transmittal of Applications: October 27, 2000.

Application Available: August 29, 2000.

Maximum Award Amount (per year): $150,000.

Note: Consistent with EDGAR 34 CFR 75.104(b), we will reject any application that proposes a project funding level for any year that exceeds the stated maximum award amount for that year.

Reasonable Accommodation Language: We will consider, and may fund, requests for additional funding as an addendum to an application to reflect the costs of reasonable accommodations necessary to allow individuals with disabilities to be employed on the project as personnel on project activities.

Estimated Number of Awards: 30.

Note: The estimated funding level in this notice does not bind the Department of Education to make awards, or to any specific number of awards or funding levels, unless otherwise specified in statute.

Project Period: 36 months.

Applicable Regulations: The Education Department General Administrative Regulations (EDGAR), 34 CFR Parts 74, 75, 77, 80, 81, 82, 85, 86, 97, 98 and 99; and the following program regulations: 34 CFR Part 350.1 (a)(2).

Note: Research activities involving human subjects supported by awards under these programs are subject to Department of Education Regulations for the Protection of Human Subjects (34 CFR part 97). Information can be found on the research Web Site at: http://ocfo.ed.gov/humansub.htm

Invitational Priorities: We are particularly interested in applications that address one of the following invitational priorities. However, under 34 CFR 75.105(c)(1) an application that meets an invitational priority does not receive competitive or absolute preference over other applications. The invitational priorities are: (1) Projects that identify and evaluate approaches for the use of information technology innovations and systems to promote the independence and quality of life of persons with disabilities; (2) projects that address the impact of managing medication therapies on work transition issues for persons with HIV-AIDS; (3) collaborative international assistive technology and rehabilitation engineering projects including, but not limited to, projects that could be carried out under Science and Technology Agreements between the U.S. and other countries; (4) projects that identify and evaluate health management, medical rehabilitation, or community integration needs of persons with newly recognized disabilities such as multiple chemical sensitivity (MCS), chronic fatigue immune deficiency syndrome (CFIDS), or other auto-immune related diseases; and (5) projects to identify and develop methodologies appropriate for use in community-based research on various aspects of disability, rehabilitation, and living independently in the community.

The invitational priorities are based on NIDRR's Long-Range Plan (the Plan). The Plan can be accessed on the World Wide Web at: http://www.ed.gov/legislation/FedRegister/other/1999-12/68576.html

We encourage applications from minority entities. The term minority entity means an entity that is a historically Black college or university, a Hispanic-serving institution of higher education, an American Indian Tribal College or university, or another institution of higher education whose minority student enrollment is at least 50 percent.

Selection Criteria: In evaluating an application for a new grant under this competition, we use selection criteria chosen from the selection criteria in 34 CFR 350.54, as well as the ten additional competitive preference points that have been announced in a notice published elsewhere in this issue of the Federal Register. The selection criteria to be used for this competition will be provided in the application package for this competition.

For Applications Contact: Education Publications Center (ED Pubs), P.O. Box 1398, Jessup, MD 20794-1398. Telephone (toll free): 1-877-433-7827. FAX: (301) 470-1244. If you use a telecommunications device for the deaf (TDD), you may call (toll free): 1-877-576-7734. You may also contact ED Pubs via its Web site: http://www.ed.gov/pubs/edpubs.html or its E-mail address (edpubs@inet.ed.gov). If you request an application from ED Pubs, be sure to identify this competition as follows: CFDA number 84.133G.

Individuals with disabilities may obtain a copy of the application package in an alternate format by contacting the Grants and Contracts Services Team, U.S. Department of Education, 400 Maryland Avenue, SW., room 3317, Switzer Building, Washington, DC 20202-2550. Telephone: (202) 205-8351. If you use a telecommunications device for the deaf (TDD), you may call the Federal Information Relay Services (FIRS) at 1-800-877-8339. However, the Department is not able to reproduce in an alternate format the standard forms included in the application package.

FOR FURTHER INFORMATION CONTACT: Donna Nangle, U.S. Department of Education, 400 Maryland Avenue, SW., room 3414, Switzer Building, Washington, DC 20202-2645. Telephone: (202) 205-5880. Individuals who use a telecommunications device for the deaf (TDD) may call the TDD number at (202) 205-4475. Internet: Donna_Nangle@ed.gov

Individuals with disabilities may obtain this document in an alternative format (e.g., Braille, large print, or computer diskette) on request to the contact person listed in the preceding paragraph.

Electronic Access to This Document

You may review this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the preceding sites. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html

Program Authority: 29 U.S.C. 764.

Dated: August 23, 2000.
Judith E. Heumann,
Assistant Secretary for Special Education and Rehabilitative Services.

[FR Doc. 00-21945 Filed 8-29-00; 8:45 am]

BILLING CODE 4000-01-P